DEPARTMENT OF COMMERCE

Foreign-Trade Zones Board

[S-226-2024]

Foreign-Trade Zone 55; Application for Subzone; Century Arms, Inc.; Georgia, Vermont

An application has been submitted to the Foreign-Trade Zones (FTZ) Board by the Greater Burlington Industrial Corporation, grantee of FTZ 55, requesting subzone status for the facility of Century Arms, Inc., located in Georgia, Vermont. The application was submitted pursuant to the provisions of the Foreign-Trade Zones Act, as amended (19 U.S.C. 81a-81u), and the regulations of the FTZ Board (15 CFR part 400). It was formally docketed on December 26, 2024.

The proposed subzone (2.30 acres) is located at 236 Bryce Boulevard, Georgia, Vermont. A notification of proposed production activity will be submitted and published separately for public comment. The proposed subzone would be subject to the existing activation limit of FTZ 55.

In accordance with the FTZ Board's regulations, Juanita Chen of the FTZ Staff is the designated examiner to review the application and make recommendations to the Executive Secretary.

Public comment is invited from interested parties. Submissions shall be addressed to the FTZ Board's Executive Secretary and sent to: ftz@trade.gov. The closing period for their receipt is February 11, 2025. Rebuttal comments in response to material submitted during the foregoing period may be submitted during the subsequent 15-day period to February 26, 2025.

A copy of the application will be available for public inspection in the “Online FTZ Information Section” section of the FTZ Board's website, which is accessible via www.trade.gov/ftz.

For further information, contact Juanita Chen at juanita.chen@trade.gov.

Dated: December 26, 2024.
Juanita Chen,
Acting Executive Secretary.

[FR Doc. 2024-31443 Filed 12-31-24; 8:45 am]

BILLING CODE 3510-DS-P